DEPARTMENT OF AGRICULTURE

Animal and Plant Health Inspection Service

[Docket No: APHIS-2008-0012]

Notice of Availability of Assessments of the Highly Pathogenic Avian Influenza Subtype H5N1 Status of Denmark and France

AGENCY: Animal and Plant Health Inspection Service, USDA.

ACTION: Notice of availability and request for comments.

SUMMARY: We are advising the public that the Animal and Plant Health Inspection Service has prepared assessments of the animal health status of Denmark and France relative to the H5N1 subtype of highly pathogenic avian influenza (HPAI), following single outbreaks of HPAI subtype H5N1 in domestic poultry in each of those countries. The assessments present our evaluation of the HPAI H5N1 detection, control, and eradication measures in place in Denmark and France at the time of the outbreaks and of the actions taken by each country in response to the outbreaks, as well as our assessment of the present status of each country with respect to HPAI subtype H5N1. We are making these risk assessments available to the public for review and comment.

DATES: We will consider all comments we receive prior to April 28, 2008.

ADDRESSES: You may submit comments by either of the following methods:

• Federal eRulemaking Portal: Go to http://www.regulations.gov/fdmspublic/component/main?main=DocketDetail&d=APHIS-2008-0012 to submit or view comments and to view supporting and related materials available electronically.

• Postal Mail/Commercial Delivery: Please send two copies of your comment to Docket No. APHIS-2008-0012, Regulatory Analysis and Development, PPD, APHIS, Station 3A-03.8, 4700 River Road Unit 118, Riverdale, MD 20737-1238. Please state that your comment refers to Docket No. APHIS-2008-0012.

Reading Room: You may read any comments that we receive on the assessments in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Julia Punderson, Regionalization Evaluation Services-Import, Sanitary Trade Issues Team, National Center for Import and Export, VS, APHIS, 4700 River Road Unit 38, Riverdale, MD 20737-1231, 301-734-4356.

SUPPLEMENTARY INFORMATION:

Background

Under the Animal Health Protection Act (7 U.S.C. 8301 et seq.), the Animal and Plant Health Inspection Service (APHIS) has the authority to prohibit or restrict the importation into the United States of animals, animal products, and other articles in order to prevent the introduction of diseases and pests into the U.S. livestock and poultry populations.

Highly pathogenic avian influenza (HPAI) is a zoonotic disease of poultry. The H5N1 subtype of HPAI is an extremely infectious and fatal form of the disease. HPAI can strike poultry quickly without any warning signs of infection and, once established, can spread rapidly from flock to flock. HPAI viruses can also be spread by manure, equipment, vehicles, egg flats, crates, and people whose clothing or shoes have come in contact with the virus. HPAI viruses can remain viable at moderate temperatures for long periods in the environment and can survive indefinitely in frozen material. The H5N1 subtype of HPAI has been of particular concern because it has crossed the species barrier and caused disease in humans.

On February 25, 2006, France reported to the World Organization for Animal Health (OIE) an outbreak of HPAI H5N1 in a turkey breeding flock. On May 18, 2006, Denmark reported to the OIE an outbreak of HPAI H5N1 in a backyard poultry flock. To prevent the introduction of HPAI H5N1 into the United States, APHIS designated the affected regions in both Denmark and France as regions where HPAI was considered to exist, and prohibited the importation of birds, poultry, and poultry products from these regions into the United States.

In the assessment titled “APHIS Analysis of the Status of High Pathogenicity Avian Influenza H5N1 (HPAI H5N1) Virus in France” (December 2007), we present the results of our evaluation of the prevalence of HPAI H5N1 in domestic poultry in France in light of the actions taken by French authorities since that outbreak, and document our analysis of the risk associated with allowing the importation of birds, poultry, and poultry products from France into the United States in the aftermath of the outbreak. The assessment titled “APHIS Analysis of the Status of High Pathogenicity Avian Influenza H5N1 (HPAI H5N1) Virus in Denmark” (December 2007) conducts a similar examination and analysis with respect to the situation in Denmark. We conducted each evaluation based on documentation supplied to APHIS by animal health authorities within the respective countries, existing European Union legislation, final reports each country submitted to the OIE regarding the outbreaks, and information that the Danish and French animal health authorities posted on their Web sites.

We based our evaluation of each country's HPAI H5N1 status on the following critical factors:

• Each country has been free of outbreaks of the H5N1 subtype in its domestic poultry for at least 3 months, as a result of effective control measures taken by a competent veterinary infrastructure;

• HPAI H5N1 was a notifiable disease in each country at the time of the outbreak;

• Each country had an ongoing disease awareness program in place at the time of the outbreak;

• Each country investigated notified or suspected occurrences of the disease;

• Each country had an effective surveillance program in place that supported the detection and investigation of outbreaks;

• Diagnostic and laboratory capabilities within each country were both adequate and effective;

• Each country undertook appropriate eradication and control measures and movement restrictions in response to the outbreaks to prevent further spread of the disease; and

• In each country, procedures used for repopulation of affected premises included monitoring to demonstrate that HPAI H5N1 had been eradicated from the premises.

Based on these factors, which are consistent with the OIE's recommendations for reinstatement for trade with a country that has experienced an HPAI H5N1 outbreak,¹ our assessment concludes that both France and Denmark had adequate detection and control measures in place at the time of the outbreak, that they have been able to effectively control and eradicate HPAI H5N1 in their domestic poultry populations since that time, and that both French and Danish animal health authorities have control measures in place to rapidly identify, control, and eradicate the disease should it be reintroduced into France or Denmark in either wild birds or domestic poultry.

¹ OIE (2006). Risk Analysis. In Terrestrial Animal Health Code, 14th edition. Paris, World Organization for Animal Health: Section 2.7.12. To view the document on the Internet, go to http://www.oie.int/eng/normes/mcode/A_summry.htm?e1d11.

We are making these assessments available for public comment. We will consider all comments that we receive on or before the date listed under the heading DATES at the beginning of this notice.

If, after the close of the comment period, APHIS can identify no additional risk factors that would indicate that domestic poultry in either France or Denmark continue to be affected with HPAI H5N1, we would conclude that the importation of live birds, poultry carcasses, parts or products of poultry carcasses, and eggs (other than hatching eggs) of poultry, game birds, or other birds from either France or Denmark presents a low risk of introducing HPAI H5N1 into the United States.

The assessments may be viewed on the Regulations.gov Web site or in our reading room (see ADDRESSES above for a link to Regulations.gov and information on the location and hours of the reading room). You may request paper copies of the assessments by calling or writing to the person listed under FOR FURTHER INFORMATION CONTACT. Please refer to the titles of the assessments when requesting copies.

Done in Washington, DC, this 21st day of March 2008.
Kevin Shea,
Acting Administrator, Animal and Plant Health Inspection Service.

[FR Doc. E8-6241 Filed 3-26-08; 8:45 am]

BILLING CODE 3410-34-P